DEPARTMENT OF TRANSPORTATION

Federal Aviation Administration

14 CFR Part 71

[Docket No. FAA-2022-0694; Airspace Docket No. 22-ACE-12]

RIN 2120-AA66

Proposed Amendment of Class D and Class E Airspace and Establishment of Class E Airspace; Columbia, MO

AGENCY: Federal Aviation Administration (FAA), DOT.

ACTION: Notice of proposed rulemaking (NPRM).

SUMMARY: This action proposes to amend the Class D and Class E airspace and establish Class E airspace at Columbia, MO. The FAA is proposing this action as the result of a biennial airspace review. The geographic coordinates of the airport would also be updated to coincide with the FAA's aeronautical database.

DATES: Comments must be received on or before July 18, 2022.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2022-0694/Airspace Docket No. 22-ACE-12 at the beginning of your comments. You may also submit comments through the internet at https://www.regulations.gov. You may review the public docket containing the proposal, any comments received, and any final disposition in person in the Dockets Office between 9:00 a.m. and 5:00 p.m., Monday through Friday, except federal holidays.

FAA Order JO 7400.11F, Airspace Designations and Reporting Points, and subsequent amendments can be viewed online at https://www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D airspace, the Class E surface airspace, and the Class E airspace extending upward from 700 feet above the surface and establish Class E airspace designated as an extension to Class D and Class E surface airspace at Columbia Regional Airport, Columbia, MO, to support instrument flight rule operations at this airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2022-0694/Airspace Docket No. 22-ACE-12.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by:

Amending the Class D airspace at Columbia Regional Airport, Columbia, MO, by updating the geographic coordinates of the airport to coincide with the FAA's aeronautical database; and replacing the outdated terms “Notice to Airmen” with “Notice to Air Missions” and “Airport/Facility Directory” with “Chart Supplement”;

Amending the Class E surface airspace at Columbia Regional Airport by updating the geographic coordinates of the airport to coincide with the FAA's aeronautical database; and adding the missing part-time language to the airspace legal description;

Establishing Class E airspace designated as an extension to Class D and Class E surface airspace at Columbia Regional Airport within 2.4 miles each side of the Columbia VOR/DME 019° radial extending from the 4.3-mile radius of the Columbia Regional Airport to 7 mile north of the Columbia VOR/DME; and within 2 miles each side of the 315° bearing from the airport extending from the 4.3-mile radius of the airport to 9.7 miles northwest of the airport;

And amending the Class E airspace extending upward from 700 feet at Columbia Regional Airport by removing the Columbia Regional Airport ILS Localizer and the associated extensions from the airspace legal description as they are no longer needed; adding an extension 2.4 miles each side of the Columbia VOR/DME 019° radial extending from the 6.8-mile radius of the airport to 7 miles north of the Columbia VOR/DME; adding an extension 2 miles each side of the 315° bearing from the airport extending from the 6.8-mile radius of the airport to 10.7 miles northwest of the airport; adding an extension 2 miles each side of the Columbia VOR/DME 333° radial extending from the 6.8-mile radius of the airport to 11.1 miles northwest of the airport; and updating the geographic coordinates of the airport to coincide with the FAA's aeronautical database.

This action is necessary due to a biennial airspace review.

Class D and E airspace designations are published in paragraphs 5000, 6002, 6004, and 6005, respectively, of FAA Order JO 7400.11F, dated August 10, 2021, and effective September 15, 2021, which is incorporated by reference in 14 CFR 71.1. The Class D and E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ACE MO D Columbia, MO [Amended]

Columbia Regional Airport, MO

(Lat. 38°49′04″ N, long. 92°13′04″ W)

That airspace extending upward from the surface to and including 3,400 feet MSL within a 4.3-mile radius of Columbia Regional Airport. This Class D airspace area is effective during the specific dates and times established in advance by a Notice to Air Missions. The effective dates and times will thereafter be continuously published in the Chart Supplement.

Paragraph 6002 Class E Airspace Areas Designated as Surface Areas.

* * * * *

ACE MO E2 Columbia, MO [Amended]

Columbia Regional Airport, MO

(Lat. 38°49′04″ N, long. 92°13′04″ W)

Within a 4.3-mile radius of Columbia Regional Airport. This Class E airspace area is effective during the specific dates and times established in advance by a Notice to Air Missions. The effective dates and times will thereafter be continuously published in the Chart Supplement.

Paragraph 6004 Class E Airspace Areas Designated as an Extension to a Class E or Class E Surface Area.

* * * * *

ACE MO E4 Columbia, MO [Establish]

Columbia Regional Airport, MO

(Lat. 38°49′04″ N, long. 92°13′04″ W)

Columbia VOR/DME

(Lat. 38°48′29″ N, long. 92°13′06″ W)

That airspace extending upward from the surface within 2.4 miles each side of the Columbia VOR/DME 019° radial extending from the 4.3-mile radius of the Columbia Regional Airport to 7 miles north of the Columbia VOR/DME; and within 2 miles each side of the 315° bearing from the Columbia Regional Airport extending from the 4.3 mile radius of the airport to 9.7 miles northwest of the airport.

Paragraph 6005 Class E Airspace Areas Extending Upward From 700 Feet or More Above the Surface of the Earth.

* * * * *

ACE MO E5 Columbia, MO [Amended]

Columbia Regional Airport, MO

(Lat. 38°49′04″ N, long. 92°13′04″ W)

Columbia VOR/DME

(Lat. 38°48′29″ N, long. 92°13′06″ W)

That airspace extending upward from 700 feet above the surface within a 6.8-mile radius of Columbia Regional Airport; and within 2.4 miles each side of the Columbia VOR/DME 019° radial extending from the 6.8-mile radius of the Columbia Regional Airport to 7 miles north of the Columbia VOR/DME; and within 2 miles each side of the 315° bearing from the Columbia Regional Airport extending from the 6.8-mile radius of the airport to 10.7 miles northwest of the airport; and within 2 miles each side of the Columbia VOR/DME 333° radial extending from the 6.8-mile radius of the Columbia Regional Airport to 11.1 miles northwest of the airport.

Issued in Fort Worth, Texas, on May 31, 2022.
Martin A. Skinner,
Acting Manager, Operations Support Group, ATO Central Service Center.

[FR Doc. 2022-11964 Filed 6-2-22; 8:45 am]

BILLING CODE 4910-13-P